NUCLEAR REGULATORY COMMISSION

[NRC-2011-0288]

Interim Staff Guidance on Changes During Construction

AGENCY: Nuclear Regulatory Commission.

ACTION: Interim staff guidance; issuance.

SUMMARY: The U.S. Nuclear Regulatory Commission (NRC) is issuing its final Interim Staff Guidance (ISG) COL-ISG-025, “Interim Staff Guidance on Changes During Construction.” This ISG provides guidance to the NRC staff on the Preliminary Amendment Request (PAR) review process available to the combined license (COL) holders. The PAR is implemented through a license condition for use as an elective precursor to the license amendment process.

DATES: The effective date of this COL-ISG-025 is September 11, 2015.

ADDRESSES: Please refer to Docket ID NRC-2011-0288 when contacting the NRC about the availability of information regarding this document. You may obtain publicly-available information related to this document using any of the following methods:

• Federal Rulemaking Web site: Go to http://www.regulations.gov and search for Docket ID NRC-2011-0288. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Mark D. Notich, Office of New Reactors, U.S. Nuclear Regulatory Commission, Washington, DC 20555-0001; telephone: 301-415-3053; email: Mark.Notich@nrc.gov.

Availability of Documents

The documents identified in the following table are available to interested persons through one or more of the following methods, as indicated.

Document title | Adams accession No.
Federal Register notice; Office of New Reactors: Final Interim Staff Guidance-025 Changes During Construction Under 10 CFR Part 52 | ML15058A383
Interim Staff Guidance-025 Changes During Construction Under 10 CFR Part 52 (Final) | ML15058A377
Nuclear Energy Institute Comments on Draft Interim Staff Guidance (ISG) COL-ISG-025, Interim Staff Guidance on Changes During Construction (78 FR 49782); [Docket ID NRC-2011-0288] | ML13304A498
Interim Staff Guidance on Changes During Construction Under 10 CFR Part 52, COL-ISG-025 (Second draft for use and comment) | ML13045A125
Nuclear Energy Institute Comments on Interim Staff Guidance (ISG) COL-ISG-025, Interim Staff Guidance on Changes During Construction Under 10 CFR Part 52 (77 FR 1749); [Docket ID NRC-2011-0288] | ML12089A019
Federal Register notice; Office of New Reactors: draft Interim Staff Guidance COL-ISG-025,Changes During Construction Under 10 CFR Part 52, (77 FR 1749) | ML111590693
Interim Staff Guidance on Changes During Construction Under 10 CFR Part 52, COL-ISG -025 (First draft for use and comment) | ML111530026
Regulatory Guide 1.187, Guidance for Implementation of 10 CFR 50.59, Changes, Tests, and Experiments | ML003759710

SUPPLEMENTARY INFORMATION:

I. Background

On January 11, 2012 (77 FR 1749) the NRC staff issued notice for use of, and to solicit public comments on, draft COL-ISG-025,” Interim Staff Guidance on Changes During Construction under part 52 of title 10 of the Code of Federal Register (10 CFR). Following receipt of public comments and a period of using this PAR process, on August 15, 2013 (78 FR 49782) the NRC staff issued a second notice for use of, and to solicit additional public comments on, draft COL-ISG-025. This ISG provides guidance to the staff on the PAR review process available to the initial 10 CFR part 52, “Licenses, Certifications, and Approvals for Nuclear Power Plants,” COL holders for use as an elective precursor to a license amendment request (LAR). The PAR process may facilitate the installation and testing of plant changes during construction. The NRC staff used and evaluated the PAR change process during the construction of the initial nuclear power plants licensed under 10 CFR part 52 and shall include this ISG in a new regulatory guide or in the next update of Regulatory Guide 1.187, “Guidance for Implementation of 10 CFR 50.59, Changes, Tests, and Experiments” (ADAMS Accession No. ML003759710).

This final ISG provides guidance to the NRC staff on the PAR review process available to 10 CFR part 52 COL holders for use as an elective precursor to a LAR. The NRC staff used the draft guidance to evaluate the PAR change process during the construction of the initial nuclear power plants licensed under 10 CFR part 52.

The final ISG is available through the NRC's public Web site at, http://www.nrc.gov/reading-rm/doc-collections/isg/, and in ADAMS under Accession No. ML15058A383.

II. Public Comments

A. Overview of Public Comments

The NRC issued draft COL-ISG-025, “Interim Staff Guidance on Changes during Construction Under 10 CFR part 52,” in the Federal Register on January 11, 2012 (77 FR 1749) for a 75-day comment period. The comment period ended on March 26, 2012. The NRC reissued draft COL-ISG-025 in the Federal Register on August 15, 2013 (78 FR 49782) for an additional 75-day comment period. The comment period ended on October 29, 2013.

The Commission received one comment submission on the second draft COL-ISG-025 from the Nuclear Energy Institute (NEI) (ADAMS Accession No. ML13304A498).

The comment summary and the NRC's response for this submission are addressed below:

B. Comment Identification and Comment Response

NEI Comment 1-1: Editorial and Clarification. Insert on page 3, paragraph 3, second sentence, add the phrase “. . . may communicate the acceptance of the LAR, and . . .” The sentence would then read as follows: “The NRC's PAR determination letter may communicate the acceptance of the LAR, and will state whether the licensee may proceed in accordance with the PAR, LAR and COL-ISG-025.”

NRC Response: The NRC staff does not agree with this comment. Although the review processes for accepting the LAR for detailed technical review and the PAR no objection review process are similar, and by design related, the technical organizations contributing to the reviews are not identical. No change was made to the ISG as a result of this comment.

III. Backfitting and Issue Finality

Issuance of this ISG does not constitute backfitting as defined in 10 CFR 50.109 (the Backfit Rule), or be regarded as backfitting under Commission and Executive Director for Operations guidance, and is not otherwise inconsistent with any of the issue finality provisions in 10 CFR part 52. This ISG does not contain any new requirements for COL applicants or holders under 10 CFR part 52, or for licensees of existing operating units licensed under 10 CFR part 50. Rather, it contains additional guidance and clarification on staff review of PARs.

V. Congressional Review Act

This ISG is a rule as defined in the Congressional Review Act (5 U.S.C. 801-808). However, the Office of Management and Budget has not found it to be a major rule as defined in the Congressional Review Act.

Dated in Rockville, Maryland, this 31st day of July, 2015.
For the Nuclear Regulatory Commission.
Joseph Colaccino,
Chief, New Reactor Rulemaking and Guidance Branch, Division of Advanced Reactors and Rulemaking, Office of New Reactors.

[FR Doc. 2015-19811 Filed 8-11-15; 8:45 am]

BILLING CODE 7590-01-P